DEPARTMENT OF COMMERCE

International Trade Administration

[A-570-601]

Tapered Roller Bearings and Parts Thereof, Finished and Unfinished, From the People's Republic of China: Preliminary Results of Antidumping Duty Administrative Review; 2021-2022

AGENCY: Enforcement and Compliance, International Trade Administration, Department of Commerce.

SUMMARY: The U.S. Department of Commerce (Commerce) preliminarily determines that tapered roller bearings and parts thereof, finished and unfinished, (TRBs) from the People's Republic of China (China) have been sold at less than normal value (NV) during the period of review (POR), June 1, 2021, through May 31, 2022. Interested parties are invited to comment on these preliminary results.

DATES: Applicable July 7, 2023.

FOR FURTHER INFORMATION CONTACT: Melissa Porpotage, AD/CVD Operations, Office II, Enforcement and Compliance, International Trade Administration, U.S. Department of Commerce, 1401 Constitution Avenue NW, Washington, DC 20230; telephone: (202) 482-1413.

SUPPLEMENTARY INFORMATION:

Background

On August 9, 2022, Commerce published a notice of initiation of an administrative review of the antidumping duty (AD) order on TRBs from China covering the POR with respect to seven companies.¹ On February 22, 2023, we extended the preliminary results of this review to no later than June 30, 2023.²

¹ See Initiation of Antidumping and Countervailing Duty Administrative Reviews, 87 FR 48459 (August 9, 2022) (Initiation Notice). Changshan Peer Bearing Co., Ltd. (CPZ) was listed in the Initiation Notice; however, prior to publication, CPZ withdrew its request for an administrative review. Thus, in September 2022, Commerce published in the Federal Register a notice correcting the inadvertent inclusion of CPZ. See CPZ's letter, “Withdrawal of Request for Administrative Review,” dated July 8, 2022; see also Initiation of Antidumping and Countervailing Duty Administrative Reviews, 87 FR 54463 (September 6, 2022).

² See Memorandum, “Extension of Deadline for Preliminary Results of 2021-2022 Antidumping Duty Administrative Review,” dated February 22, 2023.

For a complete description of the events that followed the initiation of this administrative review, see the Preliminary Decision Memorandum.³ A list of topics discussed in the Preliminary Decision Memorandum is included in the appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

³ See Memorandum, “Decision Memorandum for the Preliminary Results of the 2021-2022 Antidumping Duty Administrative Review of Tapered Roller Bearings and Parts Thereof, Finished and Unfinished, from the People's Republic of China,” dated concurrently with, and hereby adopted by, this notice (Preliminary Decision Memorandum).

Scope of the Order ⁴

⁴ See Tapered Roller Bearings and Parts Thereof, Finished or Unfinished, from the People's Republic of China, 52 FR 22667 (June 15, 1987), as amended in Tapered Roller Bearings from the People's Republic of China; Amendment to Final Determination of Sales at Less Than Fair Value and Antidumping Duty Order in Accordance with Decision Upon Remand, 55 FR 6669 (February 26, 1990) (Order).

The products covered by the Order are shipments of tapered roller bearings and parts thereof, finished and unfinished, from China; flange, take up cartridge, and hanger units incorporating tapered roller bearings; and tapered roller housings (except pillow blocks) incorporating tapered rollers, with or without spindles, whether or not for automotive use. For a full description of the scope of the Order, see the Preliminary Decision Memorandum.

Methodology

Commerce is conducting this review in accordance with section 751(a)(1)(B) of the Tariff Act of 1930, as amended (the Act). For a full description of the methodology underlying our preliminary results, see the Preliminary Decision Memorandum.⁵

⁵ See Preliminary Decision Memorandum at “Discussion of the Methodology.”

China-Wide Entity

C&U Group Shanghai Bearing Co., Ltd. (C&U Group), Hangzhou C&U Automotive Bearing Co., Ltd. (C&U Automotive), Hangzhou C&U Metallurgy Bearing Co., Ltd. (C&U Metallurgy), Huangshi C&U Bearing Co., Ltd. (Huangshi C&U), and Sichuan C&U Bearing Co., Ltd. (Sichuan C&U) did not submit separate rate applications or recertify their eligibility for a separate rate; therefore, Commerce preliminarily determines that these companies are not eligible for a separate rate and, as such, are a part of the China-wide entity.

Under Commerce's policy regarding the conditional review of the China-wide entity, the China-wide entity will not be under review unless a party specifically requests, or Commerce self-initiates, a review of the China-wide entity. Because no party requested a review of the China-wide entity and no review was initiated for the China-wide entity, the China-wide entity is not under review. Thus, the weighted-average dumping margin determined for the China-wide entity is not subject to change and continues to be 92.84 percent.⁶

⁶ See Tapered Roller Bearings and Parts Thereof, Finished and Unfinished, from the People's Republic of China: Final Results of Antidumping Duty Administrative Review, 74 FR 3987, 3988-89 (January 22, 2009) (TRBs from China 2009).

Rate for Non-Examined Companies That Are Eligible for a Separate Rate

Commerce calculated an individual weighted-average dumping margin for Shanghai Tainai Bearing Co., Ltd. (Tainai), the only company individually examined in this administrative review. Because the only individually calculated weighted-average dumping margin is not zero, de minimis, or based entirely on facts otherwise available, the weighted-average dumping margin calculated for Tainai is the basis to determine the weighted-average dumping margin for the separate rate, non-examined companies, consistent with section 735(c)(5)(A) of the Act, which provides for the determination of the estimated weighted-average dumping margin for all other producers and exporters in an investigation.

As indicated in the “Preliminary Results of Review” section below, we preliminarily determine that a weighted-average dumping margin of 27.02 percent applies to Zhejiang Jingli Bearing Technology Co., Ltd. (Jingli), the only company not selected for individual examination that is eligible for a separate rate. For further information, see the Preliminary Decision Memorandum at “Weighted-Average Dumping Margin for the Separate Rate Companies.”

Preliminary Results of Review

Commerce preliminarily determines that the following weighted-average dumping margins exist for the period June 1, 2021, through May 31, 2022:

Exporter | Weighted average dumping margin (percent)
Shanghai Tainai Bearing Co., Ltd | 27.02
Zhejiang Jingli Bearing Technology Co., Ltd | 27.02

Disclosure and Public Comment

Commerce intends to disclose the calculations performed in connection with these preliminary results to interested parties within five days after the date of publication of this notice.⁷ Case briefs or other written comments may be submitted to Commerce no later than 30 days after the date of publication of this notice.⁸ Rebuttal briefs, limited to issues raised in the case briefs, may be filed no later than seven days after the time limit for filing case briefs.⁹ Parties who submit case briefs or rebuttal briefs in this proceeding are encouraged to submit with each argument: (1) a statement of the issue; (2) a brief summary of the argument; and (3) a table of authorities.¹⁰ Case and rebuttal briefs should be filed using ACCESS.¹¹ Note that Commerce has temporarily modified certain of its requirements for serving documents containing business proprietary information, until further notice.¹²

⁷ See 19 CFR 351.224(b).

⁸ See 19 CFR 351.309(c).

⁹ See 19 CFR 351.309(c); see also Temporary Rule Modifying AD/CVD Service Requirements Due to COVID-19; Extension of Effective Period, 85 FR 41363 (July 10, 2020) (Temporary Rule).

¹⁰ See 19 CFR 351.309(c)(2) and (d)(2).

¹¹ See 19 CFR 351.303.

¹² See Temporary Rule.

Pursuant to 19 CFR 351.310(c), interested parties who wish to request a hearing must submit a written request to the Assistant Secretary for Enforcement and Compliance, U.S. Department of Commerce, filed electronically via ACCESS within 30 days after the date of publication of this notice.¹³ Hearing requests should contain: (1) the party's name, address, and telephone number; (2) the number of participants; and (3) a list of issues to be discussed. Issues raised in the hearing will be limited to issues raised in the briefs. If a request for a hearing is made, Commerce intends to hold the hearing at a date and time to be determined.¹⁴ Parties should confirm by telephone the date and time of the hearing two days before the scheduled date. An electronically filed document must be received successfully in its entirety by ACCESS by 5 p.m. Eastern Time on the established deadline.

¹³ See 19 CFR 351.310(c).

¹⁴ See 19 CFR 351.310(d).

Commerce intends to issue the final results of this administrative review, including the results of its analysis of issues raised in any written briefs, not later than 120 days after the date of publication of this notice, unless otherwise extended.¹⁵

¹⁵ See section 751(a)(3)(A) of the Act.

Assessment Rates

Upon completion of the final results, Commerce shall determine, and U.S. Customs and Border Protection (CBP) shall assess, antidumping duties on all appropriate entries.¹⁶

¹⁶ See 19 CFR 351.212(b)(1).

For each individually examined respondent in this review whose weighted-average dumping margin in the final results of review is not zero or de minimis (i.e., less than 0.5 percent), Commerce intends to calculate importer-specific assessment rates for antidumping duties, in accordance with 19 CFR 351.212(b)(1).¹⁷ Where the respondent reported reliable entered values, Commerce intends to calculate importer-specific ad valorem assessment rates by aggregating the amount of dumping calculated for all U.S. sales to the importer and dividing this amount by the total entered value of the merchandise sold to the importer.¹⁸ Where the respondent did not report entered values, Commerce will calculate importer-specific per-unit assessment rates by dividing the amount of dumping for reviewed sales to the importer by the total quantity of those sales. In addition, Commerce will calculate an estimated importer-specific ad valorem assessment rate to determine whether the per-unit assessment rate is de minimis; however, Commerce will use the per-unit assessment rate where entered values were not reported.¹⁹ Where an importer-specific ad valorem assessment rate is not zero or de minimis, Commerce will instruct CBP to collect the appropriate duties at the time of liquidation. Where either the respondent's weighted average dumping margin is zero or de minimis, or an importer-specific ad valorem assessment rate is zero or de minimis, Commerce will instruct CBP to liquidate the appropriate entries without regard to antidumping duties.²⁰

¹⁷ See Antidumping Proceedings: Calculation of the Weighted Average Dumping Margin and Assessment Rate in Certain Antidumping Proceedings: Final Modification, 77 FR 8101 (February 14, 2012) (Final Modification).

¹⁸ See 19 CFR 351.212(b)(1).

¹⁹ Id.

²⁰ See Final Modification, 77 FR at 8103.

For the final results, if we continue to treat the C&U Group, C&U Automotive, C&U Metallurgy, Huangshi C&U, and Sichuan C&U as part of China-wide entity, we will instruct CBP to apply an ad valorem assessment rate of 92.84 percent to all entries of subject merchandise during the POR that were exported by these companies.

For Jingli, the company that is receiving a separate rate and was not individually examined, its assessment rate will be equal to the weighted-average dumping margin determined in the final results of this review.

Commerce intends to issue assessment instructions to CBP no earlier than 35 days after date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of the final results of this administrative review for all shipments of the subject merchandise entered, or withdrawn from warehouse, for consumption on or after the publication date, as provided for by section 751(a)(2)(C) of the Act: (1) for the exporters listed above that have a separate rate, the cash deposit rate will be equal to the weighted-average dumping margin established in the final results of this review (except, if the rate is zero or de minimis, then a cash deposit rate of zero will be established for that company); (2) for previously investigated or reviewed Chinese and non-Chinese exporters not listed above that are currently eligible for a separate rate, the cash deposit rate will continue to be equal to the exporter-specific weighted-average dumping margin published for the most recently completed segment of this proceeding; (3) for all Chinese exporters of subject merchandise that have not been found to be entitled to a separate rate, the cash deposit rate will be the cash deposit rate established for the China-wide entity, 92.84 percent; and (4) for all exporters of subject merchandise that are not located in China and that are not eligible for a separate rate, the cash deposit rate will be the rate applicable to the Chinese exporter(s) that supplied that non-Chinese exporter.

These deposit requirements, when imposed, shall remain in effect until further notice.

Notification to Importers

This notice also serves as a preliminary reminder to importers of their responsibility under 19 CFR 351.402(f) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these preliminary results of review in accordance with sections 751(a)(l) and 777(i)(l) of the Act, and 19 CFR 351.221(b)(4).

Dated: June 29, 2023.
Lisa W. Wang,
Assistant Secretary for Enforcement and Compliance.

Appendix

List of Topics Discussed in the Preliminary Decision Memorandum

I. Summary

II. Background

III. Scope of the Order

IV. Discussion of the Methodology

V. Recommendation

[FR Doc. 2023-14370 Filed 7-6-23; 8:45 am]

BILLING CODE 3510-DS-P